SECURITIES AND EXCHANGE COMMISSION

[Release No. 34-58903A; File No. SR-FINRA-2008-011]

Self-Regulatory Organizations; Financial Industry Regulatory Authority, Inc.; Order Approving Proposed Rule Change to Amend the Trade Reporting Structure and Require Submission of Non-Tape Reports that Identify Other Members Who Participated in Agency and Riskless Principal Transactions as Modified by Amendments No. 1 and 2

November 13, 2008.

Correction

Footnote 6 is revised to read:

In Amendment No. 2, FINRA clarified the implementation date for this proposed rule change. The Commission is not publishing the amendment for comment.

Section IV.C is revised to read:

In its response to comments, FINRA stated that it intended to implement the proposed rule change at least 180 days from the date of this approval order.¹ For purposes of clarity, in Amendment No. 2, FINRA requested that the proposed rule change be implemented at least six (6) months from the date of SEC approval, but no later than nine (9) months from SEC approval. The Commission believes that this is an appropriate time frame for members to prepare to comply with the proposed rules.

¹ See FINRA Letter, supra note 10.

For the Commission, by the Division of Trading and Markets, pursuant to delegated authority.²

² 17 CFR 200.30-3(a)(12).

Florence E. Harmon,
Acting Secretary.

[FR Doc. E8-27440 Filed 11-18-08; 8:45 am]

BILLING CODE 8011-01-P